SECURITIES AND EXCHANGE COMMISSION

Proposed Collection; Comment Request

Upon Written Request, Copies Available From: Securities and Exchange Commission, Office of Investor Education and Advocacy, Washington, DC 20549.

Extension: Rule 203A-2; SEC File No. 270-501; OMB Control No. 3235-0559.

Notice is hereby given that, pursuant to the Paperwork Reduction Act of 1995 (44 U.S.C. 3501 et seq.) (“PRA”), the Securities and Exchange Commission (“Commission”) is soliciting comments on the collection of information summarized below. The Commission plans to submit the existing collection of information to the Office of Management and Budget for extension and approval.

Rule 203A-2(f),¹ which is entitled “Internet Investment Advisers,” exempts from the prohibition on Commission registration an Internet investment adviser who provides investment advice to all of its clients exclusively through computer software-based models or applications, termed under the rule as “interactive Web sites.” These advisers generally would not meet the statutory thresholds set out in section 203A of the Advisers Act ²—they do not manage $25 million or more in assets and do not advise registered investment companies. Eligibility under rule 203A-2(f) is conditioned on an adviser maintaining in an easily accessible place, for a period of not less than five years from the filing of Form ADV relying on the rule,³ a record demonstrating that the adviser's advisory business has been conducted through an interactive Web site in accordance with the rule.⁴

¹ 17 CFR 275.203A-2(f). Included in rule 203A-2(f) is a limited exception to the interactive Web site requirement which allows these advisers to provide investment advice to no more than 14 clients through other means on an annual basis. 17 CFR 275.203A-2(f)(1)(i). The rule also precludes advisers in a control relationship with the SEC-registered Internet adviser from registering with the Commission under the common control exemption provided by rule 203A-2(c) (17 CFR 275.203A-2(c)). 17 CFR 275.203A-2(f)(1)(iii).

² 15 U.S.C. 80b-3a(a).

³ The five-year record retention period is the same recordkeeping retention period for all advisers imposed under rule 204-2 of the Adviser Act. See rule 204-2 (17 CFR 275.204-2).

⁴ 17 CFR 275.203A-2(f)(1)(ii).

This record maintenance requirement is a “collection of information” for PRA purposes. The Commission believes that approximately 39 advisers are registered with the Commission under rule 203-2A(f), which involves a recordkeeping requirement manifesting in approximately four burden hours per year per adviser and results in an estimated 156 of total burden hours (4 × 39) for all advisers.

This collection of information is mandatory, as it is used by Commission staff in its examination and oversight program in order to determine continued Commission registration eligibility for advisers registered under this rule. Responses generally are kept confidential pursuant to section 210(b) of the Advisers Act.⁵ Written comments are invited on: (a) Whether the proposed collection of information is necessary for the proper performance of the functions of the agency, including whether the information will have practical utility; (b) The accuracy of the agency's estimate of the burden of the collection of information; (c) Ways to enhance the quality, utility, and clarity of the information collected; and (d) Ways to minimize the burden of the collection of information on respondents, including through the use of automated collection techniques or other forms of information technology. Consideration will be given to comments and suggestions submitted in writing within 60 days of this publication.

⁵ 15 U.S.C. 80b-10(b).

Please direct your written comments to R. Corey Booth, Director/Chief Information Officer, Securities and Exchange Commission, C/O Shirley Martinson, 6432 General Green Way, Alexandria, VA 22312; or send an e-mail to: PRA_Mailbox@sec.gov.

Dated: June 25, 2008.
Florence E. Harmon,
Acting Secretary.

[FR Doc. E8-14982 Filed 7-1-08; 8:45 am]

BILLING CODE 8010-01-P